DEPARTMENT OF ENERGY

Agency Information Collection Extension

AGENCY: Grid Deployment Office (GDO), U.S. Department of Energy (DOE).

ACTION: Notice of request for comments.

SUMMARY: The Department of Energy (DOE) invites public comment on a proposed collection of information that DOE is developing for submission to the Office of Management and Budget (OMB) pursuant to the Paperwork Reduction Act of 1995. The proposed collection will be used to accept applications and required supporting materials from applicants as required to receive payments for hydroelectric incentive programs.

DATES: Comments regarding this proposed information collection must be received before on or before April 5, 2024. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Questions may be addressed to Madden Sciubba, U.S. Department of Energy, 1000 Independence Ave. SW, Washington, DC 20585, (240) 798-1195 or by email at hydroelectricincentives@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW.

(2) Information Collection Request Title: Hydroelectric Incentive Programs.

(3) Type of Request: New.

(4) Purpose: Grid Deployment Office (GDO) proposes to collect applications and required supporting documents from applicants as required to receive payments for hydroelectric incentive programs (“Section 242” Hydroelectric Production Incentives, under 42 U.S.C. 15881; “Section 243” Hydroelectric Efficiency Improvement Incentives, under 42 U.S.C. 15882; and “Section 247” Maintaining and Enhancing Hydroelectricity Incentives, under 42 U.S.C. 15883), to include ongoing reporting requirements to ensure that incentive payments are used for proper purposes.

(5) Annual Estimated Number of Respondents: 200.

(6) Annual Estimated Number of Total Responses: 200.

(7) Annual Estimated Number of Burden Hours: 8,000 hours.

(8) Annual Estimated Reporting and Recordkeeping Cost Burden: $2,670.

Statutory Authority: 42 U.S.C. 15881-15883.

Signing Authority

This document of the Department of Energy was signed on February 29, 2024, by Maria D. Robinson, Director, Grid Deployment Office. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2024.
Treena V. Garrett,
Federal Register Liaison Officer, U.S. Department of Energy.

[FR Doc. 2024-04769 Filed 3-5-24; 8:45 am]

BILLING CODE 6450-01-P